DEPARTMENT OF STATE

[Public Notice 7943]

Suggestions for Environmental Cooperation Pursuant to the United States-Singapore Memorandum of Intent on Environmental Cooperation

AGENCY: Department of State.

ACTION: Notice of preparation of and request for comments regarding the 2013-2014 United States—Singapore Plan of Action for Environmental Cooperation.

SUMMARY: The Department invites the public, including NGOs, educational institutions, private sector enterprises and other interested persons, to submit written comments or suggestions regarding items for inclusion in the next Plan of Action for implementing the U.S.-Singapore Memorandum of Intent on Cooperation in Environmental Matters (MOI), signed on June 13, 2003. In preparing such comments or suggestions, we encourage submitters to refer to: (1) The U.S.-Singapore MOI, (2) the U.S.-Singapore 2011-2012 Plan of Action on Environmental Cooperation, (3) the U.S.-Singapore FTA Environment Chapter, and (4) the Environmental Review of the FTA. These documents are available at: http://www.state.gov/e/oes/env/trade/singapore/index.htm.

DATES: To be assured of timely consideration, all written comments or suggestions are requested no later than July 16, 2012.

ADDRESSES: Written comments or suggestions should be emailed to (MartirTorresMC@state.gov) or faxed (202) 647-5947) to Maina Martir-Torres, Office of Environmental Policy, Bureau of Oceans and International Environmental and Scientific Affairs, U.S. Department of State, with the subject line “U.S.-Singapore Environmental Cooperation.” If you have access to the Internet, you can view and comment on this notice by going to: http://www.regulations.gov/#!home and searching on docket number: DOS-2012-0042.

FOR FURTHER INFORMATION CONTACT: Maina Martir-Torres, telephone (202) 647-4750.

SUPPLEMENTARY INFORMATION:

U.S.-Singapore Memorandum of Intent on Cooperation in Environmental Matters

The United States and Singapore signed the MOI on Cooperation in Environmental Matters, on June 13, 2003. The United States and Singapore negotiated the MOI in parallel with the U.S.-Singapore Free Trade Agreement. In Section 3 of the MOI, the Governments state that they plan to meet at least biennially to review the status of cooperation and to develop and update, as appropriate, a Plan of Action for Environmental Cooperation. The Plan of Action is a tool which identifies and outlines agreed upon environmental cooperation priorities, on-going efforts, and possibilities for future cooperation.

The mutually identified goals of cooperation under the 2011-2012 Plan of Action are: (1) Encouraging the bilateral and regional use of innovative and climate friendly environmental technology and pollution management techniques; (2) participating in regional initiatives on environmentally sustainable cities and sustainable management and trade in sustainably managed resources; and (3) further improving capacity to implement and enforce environmental laws, including further enhancing efforts of countries in the region to combat illegal trade in environmentally sensitive goods through bilateral and regional cooperative activities.

For the 2013-2014 Plan of Action, we anticipate building upon cooperative work initiated under previous Plans of Action. We are requesting suggestions that may be considered for inclusion in the next Plan of Action.

For additional information, please visit: http://www.state.gov/e/oes/env/trade/singapore/index.htm.

Disclaimer: This Public Notice is a request for comments and suggestions, and is not a request for applications. No granting of money is directly associated with this request for suggestions for the Work Program and Plan of Action. There is no expectation of resources or funding associated with any comments or suggestions for the Work Program or the Plan of Action.

Dated: June 22, 2012.
George Sibley,
Director, Office of Environmental Policy, Department of State.

[FR Doc. 2012-16138 Filed 6-29-12; 8:45 am]

BILLING CODE 4710-09-P